DEPARTMENT OF THE INTERIOR

National Park Service

[NPS-WASO-NAGPRA-NPS0036183; PPWOCRADN0-PCU00RP14.R50000]

Notice of Inventory Completion: Bridgewater College's Reuel B. Pritchett Museum Collection, Bridgewater, VA

AGENCY: National Park Service, Interior.

ACTION: Notice.

SUMMARY: In accordance with the Native American Graves Protection and Repatriation Act (NAGPRA), the Bridgewater College's Reuel B. Pritchett Museum Collection has completed an inventory of human remains and associated funerary objects and has determined that there is a cultural affiliation between the human remains and associated funerary objects and Indian Tribes or Native Hawaiian organizations in this notice. The human remains and associated funerary objects were removed from the Lewis Creek Burial Mound, Augusta County, VA.

DATES: Repatriation of the human remains and associated funerary objects in this notice may occur on or after August 17, 2023.

ADDRESSES: Andrew L. Pearson, Bridgewater College, 402 East College Street, Bridgewater, VA 22812, telephone (540) 828-5410, email apearson@bridgewater.edu.

SUPPLEMENTARY INFORMATION: This notice is published as part of the National Park Service's administrative responsibilities under NAGPRA. The determinations in this notice are the sole responsibility of the Bridgewater College's Reuel B. Pritchett Museum Collection. The National Park Service is not responsible for the determinations in this notice. Additional information on the determinations in this notice, including the results of consultation, can be found in the inventory or related records held by the Bridgewater College's Reuel B. Pritchett Museum Collection.

Description

Human remains representing, at minimum, one individual were removed from the Lewis Creek Burial Mound, Augusta County, VA, by the Virginia Archaeological Society in the autumn of 1964 around the time the State Highway Department announced plans to work on access roads and ramps in the area. During the dig, Ruth Kent and Dr. Robert K. Burns, who according to the Museum's records, was an embryologist and a member of the American Academy of Sciences, discovered the infant remains. The human remains, a skeleton, was given to the Museum by the Southern Shenandoah Chapter of the Archaeological Society of Virginia in 1964 and given the catalog number 64.1.001.

On an unknown date(s), 52 cultural items were removed from the Lewis Creek Indian Mound in Augusta County, VA. The items were purchased from George Rusmiselle by Dr. Robert K. Burns circa 1936-1950, and were donated to the Museum in 1978 by Robert K. Burns. The 52 associated funerary objects are: eight red glass beads with blue and white stripes on a string (78.7.003a); 32 projectile points, some of which are carved from white quartz (78.7.003b); eight bone or shell beads (78.7.003c); one string of shell or bone wampum beads (78.7.003c); one string of shell beads (78.7.003d); one partial steatite pipe (78.7.003e); and one partial clay pipe (78.7.003f).

On an unknown date, one cultural item was removed from the Lewis Creek Indian Mound in Augusta County, VA. The item was donated to the Museum in 1954 by Reuel B. Pritchett. The one associated funerary object is an unidentified Native American stone implement that may be marked, “Lewis.” The item was given the catalog number: 54.1.956.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archaeological information, geographical information, historical information, consultation with one or more Indian Tribes, and expert opinion.

Determinations

Pursuant to NAGPRA and its implementing regulations, and after consultation with the appropriate Indian Tribes and Native Hawaiian organizations, the Bridgewater College's Reuel B. Pritchett Museum Collection has determined that:

• The human remains described in this notice represent the physical remains of one individual of Native American ancestry.

• The 53 objects described in this notice are reasonably believed to have been placed with or near individual human remains at the time of death or later as part of the death rite or ceremony.

• There is a relationship of shared group identity that can be reasonably traced between the human remains and associated funerary objects described in this notice and the Monacan Indian Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after August 17, 2023. If competing requests for repatriation are received, the Bridgewater College's Reuel B. Pritchett Museum Collection must determine the most appropriate requestor prior to repatriation. Requests for joint repatriation of the human remains and associated funerary objects are considered a single request and not competing requests. The Bridgewater College's Reuel B. Pritchett Museum Collection is responsible for sending a copy of this notice to the Indian Tribes and Native Hawaiian organizations identified in this notice.

Authority: Native American Graves Protection and Repatriation Act, 25 U.S.C. 3003, and the implementing regulations, 43 CFR 10.9, 10.10, and 10.14.

Dated: July 6, 2023.
Melanie O'Brien,
Manager, National NAGPRA Program.

[FR Doc. 2023-15100 Filed 7-17-23; 8:45 am]

BILLING CODE 4312-52-P